DEPARTMENT OF JUSTICE

Notice of Lodging of Consent Decree Under the Comprehensive Environmental Response, Compensation, and Liability Act

Pursuant to 28 CFR 50.7, notice is hereby given that on June 30, 2005, a proposed Consent Decree in United States v. Estate of Samuel M. Jones, Branch Banking & Trust Co. of Virginia in its Representative Capacity as Executor of the Estate of Samuel M. Jones, and Sam's Junk, Recycle, Scrap & Materials Services, Inc., Case No. 1:05cv770 (LMB), was lodged with the United States District Court for the Eastern District of Virginia.

In this civil action under the Comprehensive Environmental Response, Compensation and Liability Act (“CERCLA”), the United States seeks recovery of response costs from the Estate of Samuel M. Jones, Branch Banking & Trust Co. Of Virginia in its Representative Capacity as Executor of the Estate of Samuel M. Jones, and Sam's Junk, Recycle, Scrap & Materials Services (“Sam's Junk”), in connection with the Sam Jones Junkyard Site in Gainesville, Prince William County, Virginia (“the Site”). The Consent Decree requires the Estate of Samuel M. Jones and Sam's Junk to pay a total of $856,000 in reimbursement of past response costs relating to the Site. The Consent Decree also requires the Department of the Army and the General Services Administration to pay a total of $67,000 in reimbursement of past response costs.

The Department of Justice will receive comments relating to the Consent Decree for a period of thirty (30) days from the date of this publication. Please address comments to the Assistant Attorney General, Environment and Natural Resources Division, PO Box 7611, U.S. Department of Justice, Washington, DC 20044-7611, and refer to United States v. Estate of Samuel M. Jones, Branch Banking & Trust Co. of Virginia in its Representative Capacity as Executor of the Estate of Samuel M. Jones, and Sam's Junk, Recycle, Scrap & Materials Services, Inc. D.J. Ref. 90-11-2-08261.

The Consent Decree may be examined at the Office of the United States Attorney for the Eastern District of Virginia, 600 East Main Street, Suite 1800, Richmond, VA 23219, and at U.S. EPA Region III, 1650 Arch Street, Philadelphia, PA 19103. During the public comment period, the Consent Decree, may also be examined on the following Department of Justice Web site, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax No. (202) 514-0097, phone confirmation number (202) 514-1547. When requesting a copy from the Consent Decree Library, please enclose a check in the amount of $7.75 (25 cents per page reproduction cost) payable to the U.S. Treasury.

Robert Brook,
Assistant Chief, Environment Enforcement Section, Environment and Natural Resources Division.

[FR Doc. 05-13834 Filed 7-13-05; 8:45 am]

BILLING CODE 4410-15-M